DEPARTMENT OF ENERGY

Federal Energy Regulatory Commission

[Docket No. RP02-39-005]

Columbia Gulf Transmission Company; Notice of Filing of Report

January 22, 2003.

Take notice that, on January 14, 2003, Columbia Gulf Transmission Company (Columbia Gulf) tendered for filing its report after one year's experience of parking and lending service under Rate Schedule PAL. Columbia Gulf's states that its report indicates that there were no PAL transactions involving multiple points during the first year of service.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment date: January 29, 2003.

Magalie R. Salas,
Secretary.

[FR Doc. 03-1940 Filed 1-27-03; 8:45 am]

BILLING CODE 6717-01-P